DEPARTMENT OF ENERGY

Federal Energy Regulatory Commission

[Project No. 8118-034]

Lake George Hydro, LLC; Notice of Application for Surrender of License and Soliciting Comments, Motions To Intervene, and Protests

August 19, 2008.

Take notice that the following application has been filed with the Commission and is available for public inspection:

a. Application Type: Surrender of License.

b. Project No.: 8118-034.

c. Date Filed: August 6, 2008.

d. Applicant: Lake George Hydro, LLC.

e. Name of Project: Jerry Buckley.

f. Location: The project is located on Clear Creek, in Clear Creek County, Colorado, and occupies 0.8 acre of U.S. Bureau of Land Management lands.

g. Filed Pursuant to: Federal Power Act, 16 U.S.C. 791a-825r.

h. Applicant Contact: Mr. Dennis W. Pungitore, Lake George Hydro, LLC, 9748 Clairtone Lane, Littleton, CO 80126. Telephone: (303) 475-6149.

i. FERC Contact: Mr. Vedula Sarma, Telephone (202) 502-6190, and e-mail vedula.sarma@ferc.gov.

j. Deadline for filing comments and/or motions: September 19, 2008.

All documents (original and eight copies) should be filed with: Secretary, Federal Energy Regulatory Commission, 888 First Street, NE., Washington, DC 20426. Comments, protests, and interventions may be filed electronically via the Internet in lieu of paper; see 18 CFR 385.2001(a)(1)(iii) and instructions on the Commission's Web site under the “e-filing” link. The Commission strongly encourages electronic filings. Please include the project number P-8118-034 on any comments or motions filed.

The Commission's Rules of Practice and Procedure require all intervenors filing documents with the Commission to serve a copy of those documents on each person whose name appears on the official service list for the project. Further, if an intervenor files comments or documents with the Commission relating to the merits of an issue that may affect the responsibilities of a particular resource agency, they must also serve a copy of those documents on that resource agency. A copy of any motion to intervene must also be served upon each representative of the Applicant specified in the particular application.

k. Description of Request: The licensee filed an application to surrender its license. The licensee agreed to sell the project to the City of Black Hawk, Colorado, (City) and the surrender of license is a condition precedent to the purchase and sale of the project. The City intends to purchase the assets of the project and remove the penstock and generating equipment and sell the property as a real estate transaction.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3372 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E8-19692 Filed 8-25-08; 8:45 am]

BILLING CODE 6717-01-P